DEPARTMENT OF JUSTICE

Lodging of Proposed Consent Decree Under CERCLA

On February 26, 2014, the Department of Justice lodged a proposed consent decree between the United States and Boulos Family Properties, LLC; National Petroleum Packers Incorporated; National Petroleum Packers, Inc.; National Petroleum Packers of North Carolina, Inc.; Mr. Chehade Boulos; and 2.99 acres of land in Stallings, North Carolina with the United States District Court for the Western District of North Carolina, Charlotte Division, in a case entitled United States v. Boulos Family Properties, LLC, et al., No. 2:14-cv-059.

The proposed consent decree resolves claims for response costs under section 107 of the Comprehensive Environmental Response, Compensation, and Liability Act of 1980, as amended, (“CERCLA”), 42 U.S.C. 9607, against the defendants in connection with the National Petroleum Packers Site, a former glycol reprocessing facility in Stallings, North Carolina. Under the proposed consent decree, the Site (2.99 acres of land in Stallings, North Carolina) will be sold, and the net proceeds will be divided between the Environmental Protection Agency and Mr. Boulos, depending on the amount of the proceeds. The United States will provide the defendants with a covenant not to sue for the Site, conditioned on the accuracy of certain representations made about the defendants' financial condition.

The publication of this notice opens a period for public comment on the consent decree. Comments should be addressed to the Assistant Attorney General, Environment and Natural Resources Division, and should refer to United States v. Boulos Family Properties, LLC, et al., DJ. Ref. No. #90-11-3-10947. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $8.75 (25 cents per page reproduction cost) payable to the United States Treasury.

Henry S. Friedman,
Assistant Section Chief, Environmental Enforcement Section, Environment and Natural Resources Division.

[FR Doc. 2015-05009 Filed 3-4-15; 8:45 am]

BILLING CODE 4410-CWP